DEPARTMENT OF ENERGY

Federal Energy Regulatory Commission

Combined Notice of Filings #1

Take notice that the Commission received the following electric corporate filings:

Docket Numbers: EC20-44-000.

Applicants: SR Terrell, LLC.

Description: Application for Authorization Under Section 203 of the Federal Power Act, et al. of SR Terrell, LLC.

Filed Date: 3/5/20.

Accession Number: 20200305-5171.

Comments Due: 5 p.m. ET 3/26/20.

Docket Numbers: EC20-45-000.

Applicants: Birdsboro Power LLC.

Description: Application for Authorization Under Section 203 of the Federal Power Act, et al. of Birdsboro Power LLC.

Filed Date: 3/6/20.

Accession Number: 20200306-5113; 20200306-5114.

Comments Due: 5 p.m. ET 3/27/20.

Take notice that the Commission received the following exempt wholesale generator filings:

Docket Numbers: EG20-89-000.

Applicants: Coyote Wind, LLC.

Description: Notice of Self-Certification of Exempt Wholesale Generator Status of Coyote Wind, LLC.

Filed Date: 3/5/20.

Accession Number: 20200305-5173.

Comments Due: 5 p.m. ET 3/26/20.

Take notice that the Commission received the following electric rate filings:

Docket Numbers: ER10-2361-010.

Applicants: Wildorado Wind, LLC.

Description: Notice of Non-Material Change in Status of Wildorado Wind, LLC.

Filed Date: 3/4/20.

Accession Number: 20200304-5326.

Comments Due: 5 p.m. ET 3/25/20.

Docket Numbers: ER19-1409-004.

Applicants: Birdsboro Power LLC.

Description: Compliance filing: Settlement Compliance Filing to be effective 5/30/2019.

Filed Date: 3/6/20.

Accession Number: 20200306-5050.

Comments Due: 5 p.m. ET 3/27/20.

Docket Numbers: ER20-786-001.

Applicants: Midcontinent Independent System Operator, Inc.

Description: Tariff Amendment: 2020-03-06_SA 3408 Ameren Illinois-Glacier Sands Wind Power Sub GIA (J1055) to be effective 12/20/2019.

Filed Date: 3/6/20.

Accession Number: 20200306-5090.

Comments Due: 5 p.m. ET 3/27/20.

Docket Numbers: ER20-790-001.

Applicants: Midcontinent Independent System Operator, Inc.

Description: Tariff Amendment: 2020-03-06_SA 3409 City of Springfield, IL-ZEP Grand Prairie Wind Sub GIA (J750) to be effective 12/30/2019.

Filed Date: 3/6/20.

Accession Number: 20200306-5105.

Comments Due: 5 p.m. ET 3/27/20.

Docket Numbers: ER20-1187-000.

Applicants: Atlantic City Electric Company, PJM Interconnection, L.L.C.

Description: § 205(d) Rate Filing: ACE submits Revisions to OATT, Att. H-1A re: Accounting Changes for Materials an to be effective 3/6/2020.

Filed Date: 3/6/20.

Accession Number: 20200306-5044.

Comments Due: 5 p.m. ET 3/27/20.

Docket Numbers: ER20-1188-000.

Applicants: Delmarva Power & Light Company, PJM Interconnection, L.L.C.

Description: § 205(d) Rate Filing: Delmarva submits Revisions to OATT, Att. H-3D re: Materials and Supplies to be effective 3/6/2020.

Filed Date: 3/6/20.

Accession Number: 20200306-5049.

Comments Due: 5 p.m. ET 3/27/20.

Docket Numbers: ER20-1189-000.

Applicants: Southern California Edison Company.

Description: Notice of Cancellation of Service Agreements (Nos. 1071 and 172) of Southern California Edison Company.

Filed Date: 3/4/20.

Accession Number: 20200304-5323.

Comments Due: 5 p.m. ET 3/25/20.

Docket Numbers: ER20-1190-000.

Applicants: Pacific Gas and Electric Company.

Description: Notice of Termination of Small Generator Interconnection Agreement (No. 432) of Pacific Gas and Electric Company.

Filed Date: 3/5/20.

Accession Number: 20200305-5177.

Comments Due: 5 p.m. ET 3/26/20.

Docket Numbers: ER20-1191-000.

Applicants: Southwest Power Pool, Inc.

Description: § 205(d) Rate Filing: 2841R1 Smoky Hills/Evergy Kansas Central Meter Agent Cancel to be effective 2/24/2020.

Filed Date: 3/6/20.

Accession Number: 20200306-5073.

Comments Due: 5 p.m. ET 3/27/20.

Docket Numbers: ER20-1192-000.

Applicants: Pacific Gas and Electric Company.

Description: Notice of Termination of Small Generator Interconnection Agreement (No. 433) of Pacific Gas and Electric Company.

Filed Date: 3/5/20.

Accession Number: 20200305-5180.

Comments Due: 5 p.m. ET 3/26/20.

Docket Numbers: ER20-1193-000.

Applicants: Middletown Cogeneration Company LLC.

Description: Compliance filing: baseline refile to be effective 1/1/2020.

Filed Date: 3/6/20.

Accession Number: 20200306-5086.

Comments Due: 5 p.m. ET 3/27/20.

Docket Numbers: ER20-1194-000.

Applicants: Haverhill Cogeneration Company LLC.

Description: Compliance filing: baseline refiling to be effective 1/1/2020.

Filed Date: 3/6/20.

Accession Number: 20200306-5089.

Comments Due: 5 p.m. ET 3/27/20.

Docket Numbers: ER20-1195-000.

Applicants: PJM Interconnection, L.L.C.

Description: § 205(d) Rate Filing: Amendment to ICSA, SA No. 4952; Queue No. AA2-119/AC1-055/AD2-192 (amend) to be effective 6/25/2019.

Filed Date: 3/6/20.

Accession Number: 20200306-5092.

Comments Due: 5 p.m. ET 3/27/20.

Docket Numbers: ER20-1196-000.

Applicants: American Municipal Power, Inc.

Description: Compliance filing: EL18-185 eTariff Settlement Compliance Filing to be effective 7/1/2018.

Filed Date: 3/6/20.

Accession Number: 20200306-5101.

Comments Due: 5 p.m. ET 3/27/20.

Docket Numbers: ER20-1197-000.

Applicants: Public Service Company of Colorado.

Description: § 205(d) Rate Filing: PSC-WAPA-PRPA-BndryMtrGateway-550-0.0.0-Agrmt to be effective 3/7/2020.

Filed Date: 3/6/20.

Accession Number: 20200306-5102.

Comments Due: 5 p.m. ET 3/27/20.

Docket Numbers: ER20-1198-000.

Applicants: Meldahl, LLC.

Description: Compliance filing: EL18-184 eTariff Settlement Compliance Filing to be effective 7/1/2018.

Filed Date: 3/6/20.

Accession Number: 20200306-5108.

Comments Due: 5 p.m. ET 3/27/20.

Take notice that the Commission received the following qualifying facility filings:

Docket Numbers: QF20-692-000.

Applicants: Main St NJ CHP, LLC.

Description: Form 556 of Main St NJ CHP, LLC.

Filed Date: 3/3/20.

Accession Number: 20200303-5303.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 6, 2020.
Kimberly D. Bose,
Secretary.

[FR Doc. 2020-05075 Filed 3-11-20; 8:45 am]

BILLING CODE 6717-01-P